DEPARTMENT OF ENERGY

Federal Energy Regulatory Commission

[Project No. 5596-019]

Town of Bedford; Notice of Intent To File License Application, Filing of Pre-Application Document, and Approving Use of the Traditional Licensing Process

a. Type of Filing: Notice of Intent to File License Application and Request to Use the Traditional Licensing Process.

b. Project No.: 5596-019.

c. Date Filed: April 30, 2018.

d. Submitted By: Town of Bedford.

e. Name of Project: Bedford Hydroelectric Project.

f. Location: On the James River, in Amherst and Bedford Counties, Virginia. The project does not occupy federal lands.

g. Filed Pursuant to: 18 CFR 5.3 of the Commission's regulations.

h. Applicant Contact: M. Scott Salmon, Electrical Department, Town of Bedford, 877 Monroe Street, Bedford, Virginia 24523, (540) 587-6022; or Jot Splenda at (919) 866-4417; email—jsplenda@louisberger.com.

i. FERC Contact: Allyson Conner at (202) 502-6082; or email at allyson.conner@ferc.gov.

j. The Town of Bedford filed its request to use the Traditional Licensing Process on April 30, 2018. The Town of Bedford provided public notice of its request on May 23, 2018. In a letter dated June 21, 2018, the Director of the Division of Hydropower Licensing approved the Town of Bedford's request to use the Traditional Licensing Process.

k. With this notice, we are initiating informal consultation with the U.S. Fish and Wildlife Service under section 7 of the Endangered Species Act and the joint agency regulations thereunder at 50 CFR part 402. We are also initiating consultation with the Virginia State Historic Preservation Officer, as required by section 106, National Historic Preservation Act, and the implementing regulations of the Advisory Council on Historic Preservation at 36 CFR 800.2.

l. The Town of Bedford filed a Pre-Application Document (PAD; including a proposed process plan and schedule) with the Commission, pursuant to 18 CFR 5.6 of the Commission's regulations.

m. A copy of the PAD is available for review at the Commission in the Public Reference Room or may be viewed on the Commission's website (http://www.ferc.gov), using the eLibrary link. Enter the docket number, excluding the last three digits in the docket number field to access the document. For assistance, contact FERC Online Support at FERCOnlineSupport@ferc.gov, (866) 208-3676 (toll free), or (202) 502-8659 (TTY). A copy is also available for inspection and reproduction at the address in paragraph h.

n. The Town of Bedford states its unequivocal intent to submit an application for a new license for Project No. 5596. Pursuant to 18 CFR 16.8, 16.9, and 16.10 each application for a new license and any competing license applications must be filed with the Commission at least 24 months prior to the expiration of the existing license. All applications for license for this project must be filed by April 30, 2021.

o. Register online at http://www.ferc.gov/docs-filing/esubscription.asp to be notified via email of new filing and issuances related to this or other pending projects. For assistance, contact FERC Online Support.

Dated: June 21, 2018.
Nathaniel J. Davis, Sr.,
Deputy Secretary.

[FR Doc. 2018-13855 Filed 6-26-18; 8:45 am]

BILLING CODE 6717-01-P